DEPARTMENT OF LABOR

Occupational Safety and Health Administration

[Docket No. OSHA-2013-0016]

Nemko-CCL, Inc.: Grant of Expansion of Recognition

AGENCY: Occupational Safety and Health Administration (OSHA), Labor.

ACTION: Notice.

SUMMARY: In this notice, OSHA announces its final decision to expand the scope of recognition for Nemko-CCL, Inc., as a Nationally Recognized Testing Laboratory (NRTL).

DATES: The expansion of the scope of recognition becomes effective on July 27, 2016.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Notice of Final Decision

OSHA hereby gives notice of the expansion of the scope of recognition of Nemko-CCL, Inc. (CCL), as an NRTL. CCL's expansion covers the addition of two recognized testing and certification sites and twenty-two additional test standards to their NRTL scope of recognition.

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

CCL submitted two applications, dated January 28, 2015 (OSHA-2013-0016-0008) and January 26, 2016 (OSHA-2013-0016-0011), to expand its recognition to include the addition of two recognized testing and certification sites located at: Nemko USA, Inc., 2210 Faraday Avenue, Suite 150, Carlsbad, California 92008; and Nemko Canada, Inc., 303 River Road, Ottawa, Ontario, Canada K1V 1H2. Additionally, the January 2016 application sought to relocate their headquarters to Ottawa, Canada and recognize a new administrative site, Nemko-CCL, Inc., 2964 West 4700 South Suite 200, Salt Lake City, Utah 84129. OSHA staff performed a detailed analysis of the application and other pertinent information. OSHA staff also performed on-site review of the testing and certification facilities for Nemko Canada, Inc. on November 17-18, 2015 and Nemko USA, Inc. on January 11-12, 2016. The Nemko-CCL Salt Lake site was assessed via an electronic audit (no on-site visit).

CCL's first application also requested the addition of twenty-two test standards to its scope of recognition. OSHA staff performed a detailed analysis of the application packet, reviewed other pertinent information, and conducted the on-site reviews described above in relation to this application.

OSHA published the preliminary notice announcing CCL's expansion application in the Federal Register on May 17, 2016 (81 FR 30566). The Agency requested comments by June 1, 2016, but it received no comments in response to this notice. OSHA is now proceeding with this final notice to grant expansion of CCL's scope of recognition.

To obtain or review copies of all public documents pertaining to the CCL's application, go to www.regulations.gov or contact the Docket Office, Occupational Safety and Health Administration, U.S. Department of Labor, 200 Constitution Avenue NW., Room N-2625, Washington, DC 20210. Docket No. OSHA-2013-0016 contains all materials in the record concerning CCL's recognition.

II. Final Decision and Order

OSHA staff examined CCL's expansion application, conducted detailed on-site assessments, and examined other pertinent information. Based on its review of this evidence, OSHA finds that CCL meets the requirements of 29 CFR 1910.7 for expansion of its recognition, subject to the limitations and conditions listed below.

OSHA, therefore, is proceeding with this final notice to grant CCL's scope of recognition to include the two new test sites. OSHA limits the expansion of CCL's recognition to include the sites at Nemko Canada Inc., Ottawa, Ontario, Canada; Nemko-CCL, Inc. Salt Lake City, Utah, Nemko USA, Inc., Carlsbad, California. Further, OSHA approves CCL's request to relocate its headquarters to the Ottawa, Canada site and recognizes the new administrative site at the Nemko-CCL Salt Lake site. Additionally, OSHA acknowledges the name change of Nemko-CCL, Inc. to Nemko North America, Inc. and will adjust future correspondence and reference to Nemko North America, Inc. [NEMKO]. OSHA's recognition of these sites limits CCL to performing product testing and certifications only to the test standards for which the site has the proper capability and programs, and for test standards in CCL's scope of recognition. This limitation is consistent with the recognition that OSHA grants to other NRTLs that operate multiple sites.

OSHA is also proceeding with this final notice to grant CCL's scope of recognition to include the twenty-two test standards. OSHA limits this expansion of CCL's recognition to testing and certification of products for demonstration of conformance to the test standards listed in Table 1 below.

List of Appropriate Test Standards for Inclusion in CCL's NRTL Scope of Recognition
Test standard | Test standard title
UL 60335-1 | Safety of Household and Similar Electrical Appliances, Part 1: General Requirements.
UL 60335-2-24 | Safety Requirement for Household and Similar Electrical Appliances, Part 2: Refrigerating Appliances, Ice-Cream Appliances and Ice Makers.
UL 197 | Commercial Electric Cooking Appliances.
UL 250 | Household Refrigerators and Freezers.
UL 427 | Refrigerating Units.
UL 471 | Commercial Refrigerators and Freezers.
UL 499 | Electric Heating Appliances.
UL 507 | Electric Fans.
UL 561 | Floor Finishing Machines.
UL 563 | Ice Makers.
UL 705 | Power Ventilators.
UL 751 | Vending Machines.
UL 763 | Motor-Operated Commercial Food Preparing Machines.
UL 859 | Personal Grooming Appliance.
UL 867 | Electrostatic Air Cleaners.
UL 982 | Motor-Operated Food Preparing Machines.
UL 1017 | Electric Vacuum Cleaning Machines and Blower Cleaners.
UL 1026 | Electric Household Cooking and Food-Serving Appliances.
UL 1082 | Household Electric Coffee Makers and Brewing-Type Appliances.
UL 1083 | Household Electric Skillets and Frying-Type Appliances.
UL 1431 | Personal Hygiene and Health Care Appliances.
UL 1563 | Electric Spas, Equipment Assemblies and Associated Equipment.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as an American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, CCL also must abide by the following conditions of the recognition:

1. CCL must inform OSHA as soon as possible, in writing, of any change of ownership, facilities, or key personnel, and of any major change in its operations as an NRTL, and provide details of the change(s);

2. CCL must meet all the terms of its recognition and comply with all OSHA policies pertaining to this recognition; and

3. CCL must continue to meet the requirements for recognition, including all previously published conditions on CCL's scope of recognition, in all areas for which it has recognition.

Pursuant to the authority in 29 CFR 1910.7, OSHA hereby expands the recognition of CCL, subject to these limitations and conditions specified above.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on July 19, 2016.
David Michaels,
Assistant Secretary of Labor for Occupational Safety and Health.

[FR Doc. 2016-17793 Filed 7-26-16; 8:45 am]

BILLING CODE 4510-26-P